DEPARTMENT OF ENERGY

Notice of Public Hearings on the Draft Tank Closure and Waste Management Environmental Impact Statement for the Hanford Site, Richland, WA

AGENCY: Department of Energy.

ACTION: Notice of Public Hearings.

SUMMARY: The Department of Energy (DOE) announces the public hearings on the Draft Tank Closure and Waste Management Environmental Impact Statement for the Hanford Site, Richland, Washington (DOE/EIS-0391) (Draft TC&WM EIS or Draft EIS). This Draft EIS was prepared in accordance with the implementing regulations under the National Environmental Policy Act (NEPA). A Notice of Availability of the Draft EIS was published on October 30, 2009 (74 FR 56194), initiating a 140-day public comment period ending March 19, 2010. The State of Washington, Department of Ecology (Ecology) is a cooperating agency on this EIS.

DATES: During the public comment period for the Draft TC & WM EIS which ends March 19, 2010, DOE invites the public to submit written comments by any of the means listed under ADDRESSES below. In addition, oral as well as written comments may be provided at the public hearings to be held as listed under SUPPLEMENTARY INFORMATION.

ADDRESSES: Written comments may be submitted by regular mail, fax, or e-mail as follows. Written comments may be sent to: Mary Beth Burandt, Office of River Protection, Document Manager, P.O. Box 1178, Richland, Washington 99352, Attention: TC & WM EIS.

Written comments or requests for information can be submitted at TC&WMEIS@saic.com, or by faxing to 888-785-2865. The Draft EIS is available on DOE's NEPA Web site at http://www.gc.energy.gov/nepa and the Hanford Web site at http://www.hanford.gov.

Copies of this Draft EIS are available for review at: Hanford Site Public Reading Room, 2770 University Drive, CIC. Room 101L, Richland, WA 99354, 509-372-7443 and the U.S. Department of Energy, FOIA Reading Room, 1G-033, Forrestal Bldg., 1000 Independence Ave, SW., Washington, DC 20585, 202-586-5955.

FOR FURTHER INFORMATION CONTACT: For information regarding the Hanford Site or this Draft EIS, contact Ms. Burandt at the above address. The following Web sites may also be accessed for additional information on the Hanford Site: http://www.hanford.gov/orp/ (Click on Public Involvement) or http://www.hanford.gov.

General information on DOE's NEPA process is on the Department's NEPA Web site at http://www.gc.energy.gov/nepa or contact: Carol Borgstrom, Director, Office of NEPA Policy and Compliance (GC-54), U.S. Department of Energy, 1000 Independence Avenue, SW., Washington, DC 20585, e-mail AskNEPA@hq.doe.gov, telephone 202-586-4600; or leave a message at 800-472-2756.

For general questions and information about the Washington State Department of Ecology, contact: Annette Carlson, Nuclear Waste Program, 3100 Port of Benton Blvd., Richland, WA 99352, telephone 509-372-7897, e-mail anca461@ecy.wa.gov.

SUPPLEMENTARY INFORMATION:

I. Background

The Hanford Site is located in southeastern Washington State along the Columbia River, and is approximately 586 square miles in size. Hanford's mission included defense-related nuclear research, development, and weapons production activities from the early 1940s to approximately 1989. During that period, Hanford operated a plutonium production complex with nine nuclear reactors and associated processing facilities. These activities created a wide variety of chemical and radioactive wastes. Hanford's mission now is focused on the cleanup of those wastes and ultimate closure of Hanford.

In support of Hanford's cleanup mission DOE, with Ecology as a cooperating agency, prepared the Draft TC & WM EIS in accordance with the Council on Environmental Quality's National Environmental Policy Act (NEPA) Implementing Regulations at 40 CFR Parts 1500-1508 and the DOE NEPA Implementing Procedures at 10 CFR Part 1021. The Environmental Protection Agency issued a Notice of Availability of this Draft TC & WM EIS on October 30, 2009 (74 FR 56194), thereby initiating the public comment period for the Draft EIS.

II. Public Hearings

During an open house, the first hour of each hearing, participants may register to speak and meet informally with representatives from DOE and Ecology. During the formal portion of each hearing, DOE and Ecology will make short opening presentations on the Draft EIS and describe the format for the hearing. The remaining time will be available for the public to comment. The schedule of locations, dates, and times for all of the public hearings is provided as follows:

Richland, WA 99352, January 26, 2010, Red Lion Hotel Hanford House, 802 George Washington Way, 509-946-7611, 6 to 10 p.m.

Boise, ID 83702, February 2, 2010, Owyhee Plaza Hotel, 1109 Main St., 208-343-4611, 6 to 10 p.m.

Hood River, OR 97031, February 9, 2010, Columbia Gorge Hotel, 4000 Westcliff Drive, 541-386-5566, 6 to 10 p.m.

Portland, OR 97232, February 10, 2010, Doubletree Hotel, Portland—Lloyd Center, 1000 NE Multnomah Street, 503-281-6111, 6 to 10 p.m.

Seattle, WA, February 11, 2010, Seattle Center, 305 Harrison Street, 206-684-7200, 6 to 10 p.m.

DOE will consider and respond to all oral and written comments received at the public hearings or written comments postmarked by March 19, 2010, in preparing the Final EIS. Late comments will be considered to the extent practicable. DOE is considering some additional public hearings. Times and locations for those additional hearings will be announced in the Federal Register and local media.

III. Next Steps

DOE intends to issue the Final Tank Closure and Waste Management EIS by March 2011. DOE will issue a Record of Decision no sooner than 30 days after the Environmental Protection Agency publishes a Notice of Availability of the Final EIS in the Federal Register.

Signed in Washington, DC, January 5, 2010.
William M. Levitan,
Director, Office of Environmental Compliance, Office of Environmental Management.

[FR Doc. 2010-224 Filed 1-7-10; 8:45 am]

BILLING CODE 6450-01-P